DEPARTMENT OF ENERGY

Innovative Technologies Loan Guarantee Program; Extension of Comment Period

AGENCY: Loan Programs Office, Department of Energy.

ACTION: Request for information; extension of public comment period.

SUMMARY: The Loan Programs Office (“LPO”) of the Department of Energy (“DOE”) is seeking information to understand how it could improve its Title XVII Innovative Technologies Loan Guarantee Program (the “Title XVII Loan Guarantee Program”) and implement provisions of the Energy Act of 2020 and the Infrastructure Investment and Jobs Act (the “IIJA”) that expand or modify the authorities applicable to the Title XVII Loan Guarantee Program. On June 1, 2022, DOE published a request for information (“RFI”) on these subjects. The RFI provided an opportunity for submitting written comments, data, and information no later than July 1, 2022. DOE received separate requests from Holland & Knight LLP; Piedmont Lithium, Inc.; Mitsubishi Power Americas, Inc.; and American Clean Power Association for an extension of the public comment period for an additional 30 days. DOE has reviewed these requests and is granting an extension of the public comment period to allow comments to be submitted no later than August 1, 2022.

DATES: The comment period for the RFI published on June 1, 2022 (87 FR 33141) is extended. DOE will accept comments, data, and information regarding the RFI received no later than August 1, 2022.

ADDRESSES: Interested persons are encouraged to submit comments, identified by “Title XVII Loan Guarantee Program RFI,” by any of the following methods:

Email: LPO.ProposedRuleComments@hq.doe.gov. Include “Title XVII Loan Guarantee Program RFI” in the subject line of the message. Email attachments can be provided in PDF (preferred), Microsoft Word or Excel, WordPerfect, or text (ASCII) file format, prepared in accordance with the detailed instructions in section III of the June 1, 2022 RFI, which can be found at: https://www.federalregister.gov/d/2022-11734.

Postal Mail: Loan Programs Office, Attn: LPO Legal Department, U.S. Department of Energy, 1000 Independence Avenue SW, Washington, DC 20585-0121. Please submit one signed original paper copy. Due to potential delays in DOE's receipt and processing of mail sent through the U.S. Postal Service, we encourage respondents to submit comments electronically to ensure timely receipt.

FOR FURTHER INFORMATION CONTACT: Steven Westhoff, Attorney-Adviser, Loan Programs Office, email: LPO.ProposedRuleComments@hq.doe.gov, or phone: (240) 220-4994.

SUPPLEMENTARY INFORMATION: On June 1, 2022, DOE published an RFI initiating a review to consider whether to amend DOE's Title XVII Rule at 10 CFR part 609. 87 FR 33141. In the RFI, DOE identified certain programmatic and procedural issues on which it is interested in receiving comment. These issues include the scope and application of statutory amendments under the Energy Act of 2020 and the IIJA, facilitation of new or different projects and financing structures, and other potential improvements to the Title XVII Loan Guarantee Program. The RFI set a comment period deadline of July 1, 2022.

Several interested parties requested a 30-day extension of the public comment period to help investigate the request and respond appropriately with considered comments. For example, these parties referred to the diversity of topics covered in the RFI and the potential impacts that the RFI process will have on DOE's implementation of the Title XVII Loan Guarantee Program. DOE anticipates that extending the public comment period will enable additional stakeholders to submit valuable comments in response to the RFI.

DOE has determined that an extension of the public comment period is appropriate to allow interested parties additional time to submit comments for DOE's consideration. Thus, DOE is extending the comment period through August 1, 2022.

Signing Authority

This document of the Department of Energy was signed on June 24, 2022, by Dong Kim, Deputy Director, Loan Programs Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 24, 2022.
Treena V. Garrett,
Federal Register Liaison Officer, U.S. Department of Energy.

[FR Doc. 2022-13946 Filed 6-29-22; 8:45 am]

BILLING CODE 6450-01-P